DEPARTMENT OF AGRICULTURE

Animal and Plant Health Inspection Service

[Docket No. APHIS-2014-0069]

Notice of Request for Extension of Approval of an Information Collection; Importation of Gypsy Moth Host Material From Canada

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations to prevent the introduction of gypsy moth from Canada into noninfested areas of the United States.

DATES: We will consider all comments that we receive on or before October 27, 2014.

ADDRESSES: You may submit comments by either of the following methods:

• Federal eRulemaking Portal: Go to http://www.regulations.gov/#!docketDetail;D=APHIS-2014-0069.

• Postal Mail/Commercial Delivery: Send your comment to Docket No. APHIS-2014-0069, Regulatory Analysis and Development, PPD, APHIS, Station 3A-03.8, 4700 River Road, Unit 118, Riverdale, MD 20737-1238.

Supporting documents and any comments we receive on this docket may be viewed at http://www.regulations.gov/#!docketDetail;D=APHIS-2014-0069 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of gypsy moth host material from Canada, contact Mr. David Lamb, Senior Regulatory Policy Specialist, RCC, RPM, PHP, PPQ, APHIS, 4700 River Road, Unit 133, Riverdale, MD 20737; (301) 851-2103. For copies of more detailed information on the information collection, contact Mrs. Celeste Sickles, APHIS' Information Collection Coordinator, at (301) 851-2908.

SUPPLEMENTARY INFORMATION:

Title: Importation of Gypsy Moth Host Material From Canada.

OMB Control Number: 0579-0142.

Type of Request: Extension of approval of an information collection.

Abstract: The Plant Protection Act (PPA, 7 U.S.C. 7701 et seq.) authorizes the Secretary of Agriculture to prohibit or restrict the importation, entry, exportation, or interstate movement of plants, plant products, and other articles to prevent the introduction of plant pests into the United States or their dissemination within the United States. This authority has been delegated to the Animal and Plant Health Inspection Service (APHIS), which administers regulations to implement the PPA. Regulations governing the importation of gypsy moth host material into the United States from Canada are contained in 7 CFR 319.77-1 through 319.77-5.

The regulations are intended to prevent the introduction of gypsy moth into noninfested areas of the United States by placing certain inspection and documentation requirements on gypsy moth host material (i.e., regulated articles) imported from Canada. These regulated articles are: Certain trees with and without roots (e.g., Christmas trees) and shrubs with roots and persistent woody stems, logs and pulpwood with bark attached, bark and bark products, outdoor household articles, and mobile homes and their associated equipment. Under the regulations, depending on the place of origin of the regulated articles and their destination in the United States, certain information collection activities are required, including a phytosanitary certificate, certificate of origin, compliance agreement, or signed homeowner statement.

In the previous request for extension of approval of this information collection, the number of individuals (private citizens) was counted under the estimated annual number of responses per respondent rather than the estimated annual number of respondents. This notice reflects the corrected estimates.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.055 hours per response.

Respondents: Canadian plant health authorities; growers, exporters, or shippers of Christmas trees, shrubs, logs, pulpwood, and other articles from gypsy moth-infested provinces in Canada; and private individuals entering the United States with mobile homes or outdoor household articles.

Estimated annual number of respondents: 2,131.

Estimated annual number of responses per respondent: 1.090.

Estimated annual number of responses: 2,325.

Estimated total annual burden on respondents: 128 hours. (Due to averaging, the total annual burden hours may not equal the product of the annual number of responses multiplied by the reporting burden per response.)

All responses to this notice will be summarized and included in the request for OMB approval. All comments will also become a matter of public record.

Done in Washington, DC, this 22nd day of August 2014.
Kevin Shea,
Administrator, Animal and Plant Health Inspection Service.

[FR Doc. 2014-20492 Filed 8-27-14; 8:45 am]

BILLING CODE 3410-34-P